DEPARTMENT OF ENERGY

Federal Energy Regulatory Commission

Combined Notice of Filings

Take notice that the Commission has received the following Natural Gas Pipeline Rate and Refund Report filings:

Filings Instituting Proceedings

Docket Number: PR19-71-000.

Applicants: Louisville Gas and Electric Company.

Description: Tariff filing per 284.123(b),(e)/: Revised SOC and Corrected Tariff Records to be effective 5/1/2019.

Filed Date: 8/14/19.

Accession Number: 201908145056.

Comments/Protests Due: 5 p.m. ET 9/4/19.

Docket Number: PR17-60-003.

Applicants: Atmos Pipeline-Texas.

Description: Tariff filing per 284.123(b),(e)/: PR17-60 APT 2019 Compliance Filing to be effective 9/1/2017.

Filed Date: 8/15/19.

Accession Number: 201908155020.

Comments/Protests Due: 5 p.m. ET 9/5/19.

Docket Number: PR19-72-000.

Applicants: Acadian Gas Pipeline System.

Description: Tariff filing per 284.123(b)(2)+(g): Merger and Rate Filing 2019 to be effective 10/1/2019.

Filed Date: 8/15/19.

Accession Number: 201908155140.

Comments Due: 5 p.m. ET 9/5/19.

284.123(g) Protests Due: 5 p.m. ET 10/15/19.

Docket Numbers: RP19-1034-001.

Applicants: DBM Pipeline, LLC.

Description: Compliance filing Compliance Filing to be effective 8/1/2019.

Filed Date: 8/15/19.

Accession Number: 20190815-5023.

Comments Due: 5 p.m. ET 8/27/19.

Docket Numbers: RP19-1035-001.

Applicants: KPC Pipeline, LLC.

Description: Compliance filing Compliance Filing to be effective 8/1/2019.

Filed Date: 8/15/19.

Accession Number: 20190815-5021.

Comments Due: 5 p.m. ET 8/27/19.

Docket Numbers: RP19-1036-001.

Applicants: MarkWest New Mexico, L.L.C.

Description: Compliance filing Compliance Filing to be effective 8/1/2019.

Filed Date: 8/15/19.

Accession Number: 20190815-5019.

Comments Due: 5 p.m. ET 8/27/19.

Docket Numbers: RP19-1037-001.

Applicants: MarkWest Pioneer, L.L.C.

Description: Compliance filing Compliance Filing to be effective 8/1/2019.

Filed Date: 8/15/19.

Accession Number: 20190815-5018.

Comments Due: 5 p.m. ET 8/27/19.

Docket Numbers: RP19-1038-001.

Applicants: NGO Transmission, Inc.

Description: Compliance filing Compliance Filing to be effective 8/1/2019.

Filed Date: 8/15/19.

Accession Number: 20190815-5017.

Comments Due: 5 p.m. ET 8/27/19.

Docket Numbers: RP19-1039-002.

Applicants: Venice Gathering System, L.L.C.

Description: Compliance filing VGS Second Order No. 587-Y Compliance Filing to be effective 8/1/2019.

Filed Date: 8/15/19.

Accession Number: 20190815-5032.

Comments Due: 5 p.m. ET 8/27/19.

Docket Numbers: RP19-1051-001.

Applicants: National Grid LNG, LLC.

Description: Compliance filing Filing in Compliance with July 29, 2019 Order 587-Y Compliance Filings Order to be effective 8/1/2019.

Filed Date: 8/15/19.

Accession Number: 20190815-5141.

Comments Due: 5 p.m. ET 8/27/19.

Docket Numbers: RP19-1070-001.

Applicants: Western Gas Interstate Company.

Description: Compliance filing Order No. 587-Y Compliance (NAESB Version 3.1) Amendment 1 to be effective 8/1/2019.

Filed Date: 8/15/19

Accession Number: 20190815-5179.

Comments Due: 5 p.m. ET 8/27/19.

Docket Numbers: RP19-1085-001.

Applicants: Eastern Shore Natural Gas Company.

Description: Compliance filing Order No. 587-Y Compliance Filing Part 2 to be effective 8/1/2019.

Filed Date: 8/15/19.

Accession Number: 20190815-5053.

Comments Due: 5 p.m. ET 8/27/19.

Docket Numbers: RP19-1473-000.

Applicants: Gulf South Pipeline Company, LP.

Description: § 4(d) Rate Filing: Clarifications and Clean-up Items Related to Future GMS Implementation to be effective 9/15/2019.

Filed Date: 8/15/19.

Accession Number: 20190815-5045.

Comments Due: 5 p.m. ET 8/27/19.

Docket Numbers: RP19-1474-000.

Applicants: LA Storage, LLC.

Description: § 4(d) Rate Filing: Filing of Negotiated Rate, Conforming IW Agreements to be effective 8/15/2019.

Filed Date: 8/15/19.

Accession Number: 20190815-5094.

Comments Due: 5 p.m. ET 8/27/19.

Docket Numbers: RP19-1475-000.

Applicants: Texas Eastern Transmission, LP.

Description: § 4(d) Rate Filing: Negotiated Rate—MC Global to CIMA Energy—895824 to be effective 8/19/2019.

Filed Date: 8/15/19.

Accession Number: 20190815-5098.

Comments Due: 5 p.m. ET 8/27/19.

Docket Numbers: RP19-1476-000.

Applicants: Equitrans, L.P.

Description: § 4(d) Rate Filing: Negotiated Retainage Update to be effective 9/1/2019.

Filed Date: 8/15/19.

Accession Number: 20190815-5181.

Comments Due: 5 p.m. ET 8/27/19.

Docket Numbers: RP19-581-002.

Applicants: Rager Mountain Storage Company LLC.

Description: Compliance filing NAESB 3.1 Compliance Filing—Order No. 587-Y to be effective 8/1/2019.

Filed Date: 8/15/19.

Accession Number: 20190815-5184.

Comments Due: 5 p.m. ET 8/27/19.

Docket Numbers: RP19-582-002.

Applicants: Equitrans, L.P.

Description: Compliance filing NAESB 3.1 Compliance Filing—Order No. 587-Y to be effective 8/1/2019.

Filed Date: 8/15/19.

Accession Number: 20190815-5180.

Comments Due: 5 p.m. ET 8/27/19.

Docket Numbers: RP19-824-001.

Applicants: Dominion Energy Questar Pipeline, LLC.

Description: Compliance filing NAESB 3.1 Compliance Filing to be effective 8/1/2019.

Filed Date: 8/15/19.

Accession Number: 20190815-5161.

Comments Due: 5 p.m. ET 8/27/19.

Docket Numbers: RP19-825-001.

Applicants: Dominion Energy Overthrust Pipeline, LLC.

Description: Compliance filing NAESB 3.1 Compliance Filing to be effective 8/1/2019.

Filed Date: 8/15/19.

Accession Number: 20190815-5165.

Comments Due: 5 p.m. ET 8/27/19.

Docket Numbers: RP19-826-001.

Applicants: Questar Southern Trails Pipeline Company.

Description: Compliance filing NAESB 3.1 Compliance Filing to be effective 8/1/2019.

Filed Date: 8/15/19.

Accession Number: 20190815-5172.

Comments Due: 5 p.m. ET 8/27/19.

Docket Numbers: RP19-828-001.

Applicants: White River Hub, LLC.

Description: Compliance filing NAESB 3.1 Compliance Filing to be effective 8/1/2019.

Filed Date: 8/15/19.

Accession Number: 20190815-5169.

Comments Due: 5 p.m. ET 8/27/19.

Docket Numbers: RP19-839-002.

Applicants: Vector Pipeline L.P.

Description: Compliance filing NAESB 3.1 Compliance Filing—Sheet 159E Correction to be effective 8/1/2019.

Filed Date: 8/15/19.

Accession Number: 20190815-5057.

Comments Due: 5 p.m. ET 8/27/19.

Docket Numbers: RP19-894-001.

Applicants: Alliance Pipeline L.P.

Description: Compliance filing RP19-894-000 Order 587-Y Compliance Filing to be effective 8/1/2019.

Filed Date: 8/15/19.

Accession Number: 20190815-5027.

Comments Due: 5 p.m. ET 8/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: August 19, 2019.
Nathaniel J. Davis, Sr.,
Deputy Secretary.

[FR Doc. 2019-18272 Filed 8-23-19; 8:45 am]

BILLING CODE 6717-01-P